DEPARTMENT OF HOUSING AND URBAN DEVELOPMENT

[Docket No. FR-5125-N-21]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, Attn: DAIM-ZS, Rm 8536, 2511 Jefferson Davis Hwy., Arlington, VA 22202; (703) 601-2545; Coast Guard: Commandant, U.S. Coast Guard, Attn: Teresa Sheinberg, 2100 Second St, SW., Rm 6109, Washington, DC 20593-0001; (202 267-6142; Energy: Mr. John Watson, Department of Energy, Office of Engineering & Construction Management, ME-90, 1000 Independence Ave, SW., Washington, DC 20585: (202) 586-0072; GSA: Mr. John E.B. Smith, Deputy Assistant Commissioner, General Services Administration, Office of Property Disposal, 18th and F Streets, NW., Washington, DC 20405; (202) 501-0084; Interior: Mr. Michael Wright, Acquisition & Property Management, Department of the Interior, 1849 C Street, NW., MS2603, Washington, DC 20240; (202) 513-0747; Navy: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: May 17, 2007.
Mark R. Johnston,
Deputy Assistant Secretary for Special Needs.

Title V, Federal Surplus Property Program Federal Register Report for 05/25/2007

Suitable/Available Properties

Building

Colorado

Bldgs. 123, 128, 129

National Forest

White River CO

Landholding Agency: GSA

Property Number: 54200720006

Status: Surplus

GSA Number: 7-A-CO-0662

Comments: school house/1500 sq. ft., cabin/500 sq. ft., hut/150 sq. ft., off-site use only

Green Mountain Shower Bldg.

CR 1813

Silverthorne Co: Summit CO 80498

Landholding Agency: GSA

Property Number: 54200720019

Status: Surplus

GSA Number: 7-I-CO-0664

Comments: 512 sq. ft. shower building, off-site use only

Michigan

Social Security Bldg.

929 Stevens Road

Flint MI 48503

Landholding Agency: GSA

Property Number: 54200720020

Status: Excess

GSA Number: 1-G-MI-822

Comments: 10,283 sq. ft., most recent use—office

Suitable/Available Properties

Building

North Dakota

North House

10951 County Road

Hannah Co: Cavalier ND 58239

Landholding Agency: GSA

Property Number: 54200720008

Status: Surplus

GSA Number: 7-X-ND-0515-1A

Comments: 1128 sq. ft. residence, off-site use only

South House

10949 County Road

Hannah Co: Cavalier ND 58239

Landholding Agency: GSA

Property Number: 54200720009

Status: Surplus

GSA Number: 7-X-ND-0515-1B

Comments: 1128 sq. ft. residence, off-site use only

North House

Highway 40

Noonan Co: Divide ND 58765

Landholding Agency: GSA

Property Number: 54200720010

Status: Surplus

GSA Number: 7-X-ND-0517-1A

Comments: 1564 sq. ft. residence, off-site use only

South House

Highway 40

Noonan Co: Divide ND 58765

Landholding Agency: GSA

Property Number: 54200720011

Status: Surplus

GSA Number: 7-X-ND-0517-1B

Comments: 1564 sq. ft. residence, off-site use only

Suitable/Available Properties

Building

North Dakota

North House

Rt. 1, Box 66

Sarles Co: Cavalier ND 58372

Landholding Agency: GSA

Property Number: 54200720012

Status: Surplus

GSA Number: 7-X-ND-0516-1B

Comments: 1228 sq. ft. residence, off-site use only

South House

Rt. 1, Box 67

Sarles Co: Cavalier ND 58372

Landholding Agency: GSA

Property Number: 54200720013

Status: Surplus

GSA Number: 7-X-ND-0516-1A

Comments: 1228 sq. ft. residence, off-site use only

House #1

10925 Hwy 28

Sherwood Co: Renville ND 58782

Landholding Agency: GSA

Property Number: 54200720014

Status: Surplus

GSA Number: 7-X-ND-0518-1B

Comments: 1228 sq. ft. residence, off-site use only

House #2

10927 Hwy 28

Sherwood Co: Renville ND 58782

Landholding Agency: GSA

Property Number: 54200720015

Status: Surplus

GSA Number: 7-X-ND-0518-1A

Comments: 1228 sq. ft. residence, off-site use only

Suitable/Available Properties

Building

North Dakota

North House

10913 Hwy 83

Westhope Co: Bottineau ND 58793

Landholding Agency: GSA

Property Number: 54200720016

Status: Surplus

GSA Number: 7-X-ND-0519-1B

Comments: 1218 sq. ft. residence, off-site use only

South House

10909 Hwy 83

Westhope Co: Bottineau ND 58793

Landholding Agency: GSA

Property Number: 54200720017

Status: Surplus

GSA Number: 7-X-ND-0519-1A

Comments: 1218 sq. ft. residence, off-site use only

Vermont

Rochester House/Garage

Rt. 100

Rochester VT 05767

Landholding Agency: GSA

Property Number: 54200720021

Status: Surplus

GSA Number: 1-A-VT-0478-1A

Comments: 1152 sq. ft., off-site use only

Suitable/Available Properties

Building

Washington

Bldg. 1933

50 Acre Drive

Eltopia WA 99330

Landholding Agency: Interior

Property Number: 61200720006

Status: Unutilized

Comments: 709 sq. ft., most recent use—residence, possible asbestos/lead paint, off-site use only

Bldg. 1933g

50 Acre Drive

Eltopia WA 99330

Landholding Agency: Interior

Property Number: 61200720007

Status: Unutilized

Comments: 264 sq. ft., most recent use—garage, possible asbestos/lead paint, off-site use only

Bldg. 1934

40 Acre Drive

Eltopia WA

Landholding Agency: Interior

Property Number: 61200720008

Status: Unutilized

Comments: 709 sq. ft., most recent use—residence, possible asbestos/lead paint, off-site use only

Bldg. 1934g

40 Acre Drive

Eltopia WA 99330

Landholding Agency: Interior

Property Number: 61200720009

Status: Unutilized

Comments: 264 sq. ft., most recent use—garage, possible asbestos/lead paint, off-site use only

Suitable/Available Properties

Summary for Suitable/Available Properties = Total number of Properties 20

Suitable/Unavailable Properties

Land

North Carolina

6.35 acres

Marine Corps Base

Camp Lejeune NC

Landholding Agency: Navy

Property Number: 77200720051

Status: Underutilized

Comments: triangular-shaped parcel

6.8 acre

Marine Corps Base

Camp Lejeune NC

Landholding Agency: Navy

Property Number: 77200720053

Status: Underutilized

Comments: 6.8 acres

Summary for Suitable/Unavailable Properties = Total number of Properties 2

Unsuitable Properties

Building

Alabama

Bldgs. 25402, 25406, 30116

Ft. Rucker

Dale AL 36362

Landholding Agency: Army

Property Number: 21200720001

Status: Unutilized

Reasons: Extensive deterioration

California

Bldg. 3267

Naval Base

San Diego CA

Landholding Agency: Navy

Property Number: 77200720039

Status: Unutilized

Reasons: Secured Area

Quarters/Garages

Lighthouse Station

Trinidad CA 95570

Landholding Agency: Coast Guard

Property Number: 88200720001

Status: Unutilized

Reasons: Extensive deterioration

Unsuitable Properties

Building

Colorado

Bldgs. 0111a, 0112a, 0113a

Pueblo Chemical Depot

Pueblo CO 81006

Landholding Agency: Army

Property Number: 21200720002

Status: Unutilized

Reasons: Secured Area

4 Bldgs.

Fort Carson

56231, 56232, 56234, 56250

El Paso CO 80913

Landholding Agency: Army

Property Number: 21200720003

Status: Unutilized

Reasons: Secured Area

Bldgs. 00011, 00012

Pueblo Chemical Depot

Pueblo CO 81006

Landholding Agency: Army

Property Number: 21200720007

Status: Underutilized

Reasons: Secured Area

Bldgs. 00519, 00535, 00560

Pueblo Chemical Depot

Pueblo CO 81006

Landholding Agency: Army

Property Number: 21200720008

Status: Underutilized

Reasons: Secured Area

Unsuitable Properties

Building

Georgia

Bldg. 00050

Fort Benning

Dahlonega GA 30597

Landholding Agency: Army

Property Number: 21200720004

Status: Excess

Reasons: Extensive deterioration

Bldgs. 03814, 08594

Fort Benning

Muscogee GA 31905

Landholding Agency: Army

Property Number: 21200720005

Status: Excess

Reasons: Extensive deterioration

Bldgs. 08621, 08641, 08731

Fort Benning

Muscogee GA 31905

Landholding Agency: Army

Property Number: 21200720006

Status: Excess

Reasons: Extensive deterioration

Bldgs. 00404, 00406

Fort Gordon

Richmond GA 30905

Landholding Agency: Army

Property Number: 21200720009

Status: Unutilized

Reasons: Extensive deterioration

Unsuitable Properties

Building

Georgia

4 Bldgs.

Fort Gordon

25104, 81102, 0T002, 0T036

Richmond GA 30905

Landholding Agency: Army

Property Number: 21200720010

Status: Unutilized

Reasons: Extensive deterioration

Bldgs. 00205, 01016, 01567

Fort Stewart

Hinesville GA 31314

Landholding Agency: Army

Property Number: 21200720011

Status: Excess

Reasons: Extensive deterioration

Bldgs. 00129, 00145

Hunter Army Airfield

Savannah GA 31409

Landholding Agency: Army

Property Number: 21200720012

Status: Excess

Reasons: Extensive deterioration

7 Bldgs.

Marine Logistics Base

Albany GA

Landholding Agency: Navy

Property Number: 77200720040

Status: Excess

Directions: 7100, 7106, 7108, 7110, 5584, 7964, 7966

Reasons: Secured Area

Unsuitable Properties

Building

Hawaii

Bldg. 389

Naval Station

Pearl Harbor HI 96860

Landholding Agency: Navy

Property Number: 77200720041

Status: Excess

Reasons: Secured Area

Indiana

Bldgs. 169D, 169E

Naval Support Activity Crane

Crane Co: Martin IN 47522

Landholding Agency: Navy

Property Number: 77200720042

Status: Unutilized

Reasons: Secured Area

Within 2000 ft. of flammable or explosive material

4 Bldgs

Naval Support Activity Crane 2171, 2174, 2175, 2176

Crane Co: Martin IN 47522

Landholding Agency: Navy

Property Number: 77200720043

Status: Unutilized

Reasons: Secured Area

Within 2000 ft. of flammable or explosive material

Unsuitable Properties

Building

Indiana

4 Bldgs.

Naval Support Activity Crane

2500, 2512, 2514, 2515

Crane Co: Martin IN 47522

Landholding Agency: Navy

Property Number: 77200720044

Status: Unutilized

Reasons: Secured Area

Within 2000 ft. of flammable or explosive material

Bldg. 3036

Naval Support Activity Crane

Crane Co: Martin IN 47522

Landholding Agency: Navy

Property Number: 77200720045

Status: Unutilized

Reasons: Secured Area

Within 2000 ft. of flammable or explosive material

Kentucky

Bldgs. 00248, 01173

Blue Grass Army Depot

Richmond KY 40475

Landholding Agency: Army

Property Number: 21200720013

Status: Unutilized

Reasons: Secured Area

Unsuitable Properties

Building

Kentucky

Bldg. 00719

Fort Campbell

Christian KY 42223

Landholding Agency: Army

Property Number: 21200720014

Status: Unutilized

Reasons: Extensive deterioration

Bldgs. 00826, 0828, 00877

Fort Campbell

Christian KY 42223

Landholding Agency: Army

Property Number: 21200720015

Status: Unutilized

Reasons: Extensive deterioration

6 Bldgs.

Fort Campbell

Christian KY 42223

Landholding Agency: Army

Property Number: 21200720016

Status: Unutilized

Directions: 02332, 02334, 02401, 02430, 2431, 2436

Reasons: Extensive deterioration

5 Bldgs.

Fort Campbell

Christian KY 42223

Landholding Agency: Army

Property Number: 21200720017

Status: Unutilized

Directions: 02506, 02515, 02530, 02536, 02541

Reasons: Extensive deterioration

Unsuitable Properties

Building

Kentucky

Bldgs. 02603, 02902

Fort Campbell

Christian KY 42223

Landholding Agency: Army

Property Number: 21200720018

Status: Unutilized

Reasons: Extensive deterioration

Bldgs. 02904, 02905, 02907

Fort Campbell

Christian KY 42223

Landholding Agency: Army

Property Number: 21200720019

Status: Unutilized

Reasons: Extensive deterioration

5 Bldgs.

Fort Campbell

Christian KY 42223

Landholding Agency: Army

Property Number: 21200720020

Status: Unutilized

Directions: 03101, 03102, 03202, 03204, 03306

Reasons: Extensive deterioration

Bldgs. 04859, 04860

Fort Campbell

Christian KY 42223

Landholding Agency: Army

Property Number: 21200720021

Status: Unutilized

Reasons: Extensive deterioration

Unsuitable Properties

Building

Kentucky

Bldgs. 05330, 05511, 05513

Fort Campbell

Christian KY 42223

Landholding Agency: Army

Property Number: 21200720022

Status: Unutilized

Reasons: Extensive deterioration

7 Bldgs.

Fort Campbell

Christian KY 42223

Landholding Agency: Army

Property Number: 21200720023

Status: Unutilized

Directions: 06454, 06456, 06460, 06464, 06468, 06470, 06474

Reasons: Extensive deterioration

Bldg. 06612

Fort Campbell

Christian KY 42223

Landholding Agency: Army

Property Number: 21200720024

Status: Unutilized

Reasons: Extensive deterioration

Bldgs. 07173, 7201, 7297

Fort Campbell

Christian KY 42223

Landholding Agency: Army

Property Number: 21200720025

Status: Unutilized

Reasons: Extensive deterioration

Unsuitable Properties

Building

Maryland

Bldg. 00901

Fort Detrick

Frederick MD 21702

Landholding Agency: Army

Property Number: 21200720026

Status: Unutilized

Reasons: Secured Area

Bldgs. 04272, 04554

Fort Meade

Anne Arundel MD 20755

Landholding Agency: Army

Property Number: 21200720027

Status: Unutilized

Reasons: Extensive deterioration

Minnesota

House

Glacial Ridge

13997 Hwy 2W

Red Lake Falls MN

Landholding Agency: Interior

Property Number: 61200720004

Status: Excess

Reasons: Extensive deterioration

Unsuitable Properties

Building

Mississippi

Bldgs. 95, 96

Naval Air Station

Meridian MS 39309

Landholding Agency: Navy

Property Number: 77200720046

Status: Unutilized

Reasons: Secured Area

Within airport runway clear zone

Within 2000 ft. of flammable or explosive material

Bldg. 167

Naval Air Station

Meridian MS 39309

Landholding Agency: Navy

Property Number: 77200720047

Status: Unutilized

Reasons: Secured Area

Bldgs. 212, 228

Naval Air Station

Meridian MS 39309

Landholding Agency: Navy

Property Number: 77200720048

Status: Unutilized

Reasons: Secured Area

Bldgs. 266, 267

Naval Air Station

Meridian MS 39309

Landholding Agency: Navy

Property Number: 77200720049

Status: Unutilized

Reasons: Secured Area

Unsuitable Properties

Building

Mississippi

Bldgs. 351, 445

Naval Air Station

Meridian MS 39309

Landholding Agency: Navy

Property Number: 77200720050

Status: Unutilized

Reasons: Secured Area

Montana

Bldg. 2321

Big Mountain Electronic Site

Flathead MT

Landholding Agency: GSA

Property Number: 54200720007

Status: Excess

GSA Number: 7-A-MT-0622-1A

Reasons: Other—tower

New Jersey

Bldg. 3402

Picatinny Arsenal

Dover NJ 07806

Landholding Agency: Army

Property Number: 21200720028

Status: Unutilized

Reasons: Extensive deterioration

Unsuitable Properties

Building

New York

Bldgs. 0087, 0100

Brookhaven Natl Laboratory

Upton NY 11973

Landholding Agency: Energy

Property Number: 41200720002

Status: Excess

Reasons: Within 2000 ft. of flammable or explosive material

Secured Area

Bldgs. 0134A, 0179A

Brookhaven Natl Laboratory

Upton NY 11973

Landholding Agency: Energy

Property Number: 41200720003

Status: Excess

Reasons: Secured Area

Within 2000 ft. of flammable or explosive material

Bldgs. 0210, 0211

Brookhaven Natl Laboratory

Upton NY 11973

Landholding Agency: Energy

Property Number: 41200720004

Status: Excess

Reasons: Within 2000 ft. of flammable or explosive material

Secured Area

Bldgs. 0475, 0481

Brookhaven Natl Laboratory

Upton NY 11973

Landholding Agency: Energy

Property Number: 41200720005

Status: Excess

Reasons: Within 2000 ft. of flammable or explosive material

Secured Area

Unsuitable Properties

Building

New York

Bldgs. 0629, 0952

Brookhaven Natl Laboratory

Upton NY 11973

Landholding Agency: Energy

Property Number: 41200720006

Status: Excess

Reasons: Secured Area

Within 2000 ft. of flammable or explosive material

Bldg. 60

Floyd Bennett Field

Tract 01-109

Brooklyn NY

Landholding Agency: Interior

Property Number: 61200720005

Status: Unutilized

Reasons: Secured Area

North Carolina

Bldg. 02723

Fort Bragg

Ft. Bragg NC 28310

Landholding Agency: Army

Property Number: 21200720029

Status: Unutilized

Reasons: Extensive deterioration

Unsuitable Properties

Building

North Carolina

4 Bldgs.

Fort Bragg

T3020, T3021, D3026, D3029

Ft. Bragg NC 28310

Landholding Agency: Army

Property Number: 21200720030

Status: Unutilized

Reasons: Extensive deterioration

4 Bldgs.

Fort Bragg

T3033, T3034, T3035, T3036

Ft. Bragg NC 28310

Landholding Agency: Army

Property Number: 21200720031

Status: Unutilized

Reasons: Extensive deterioration

Bldg. 9656

Fort Bragg

Ft. Bragg NC 28310

Landholding Agency: Army

Property Number: 21200720032

Status: Unutilized

Reasons: Extensive deterioration

4 Bldgs.

Fort Bragg

42145, 42245, 42848, 42948

Ft. Bragg NC 28310

Landholding Agency: Army

Property Number: 21200720033

Status: Unutilized

Reasons: Extensive deterioration

Unsuitable Properties

Building

North Carolina

Bldgs. 81703, 81706, 81821

Fort Bragg

Ft. Bragg NC 28310

Landholding Agency: Army

Property Number: 21200720034

Status: Unutilized

Reasons: Extensive deterioration

Bldgs. 82121, 82313

Fort Bragg

Ft. Bragg NC 28310

Landholding Agency: Army

Property Number: 21200720035

Status: Unutilized

Reasons: Extensive deterioration

South Carolina

L. Mendel Fed. Bldg.

334 Meeting Street

Charleston SC 29403

Landholding Agency: GSA

Property Number: 54200720018

Status: Excess

GSA Number: 4-G-SC-604

Reasons: Contamination

Unsuitable Properties

Building

Tennessee

17 Bldgs.

Naval Support Activity

Millington TN 38054

Landholding Agency: Navy

Property Number: 77200720052

Status: Excess

Directions: 2005-2008, 2010-2015, 2017, 2052-2053, 2055, 2057, 2059-2060

Reasons: Secured Area

Utah

Bldgs. 03300, 03312

Deseret Chemical Depot

Stockton UT 84071

Landholding Agency: Army

Property Number: 21200720036

Status: Excess

Reasons: Secured Area

Bldgs. 07083, 07200

Deseret Chemical Depot

Stockton UT 84071

Landholding Agency: Army

Property Number: 21200720037

Status: Excess

Reasons: Secured Area

Unsuitable Properties

Building

Virginia

Bldg. 00030

Defense Supply Center

Richmond VA 23297

Landholding Agency: Army

Property Number: 21200720038

Status: Unutilized

Reasons: Secured Area

Bldgs. 00170, 00171, 00173

Defense Supply Center

Richmond VA 23297

Landholding Agency: Army

Property Number: 21200720039

Status: Unutilized

Reasons: Secured Area

Bldgs. 00174, 00175

Defense Supply Center

Richmond VA 23297

Landholding Agency: Army

Property Number: 21200720040

Status: Unutilized

Reasons: Secured Area

Bldgs. 1632, 8400

Fort Lee

Prince George VA 23801

Landholding Agency: Army

Property Number: 21200720041

Status: Unutilized

Reasons: Extensive deterioration

Unsuitable Properties

Building

Virginia

Bldgs. T2225, T2845, T2842

Fort Pickett

Blackstone VA 23824

Landholding Agency: Army

Property Number: 21200720042

Status: Unutilized

Reasons: Extensive deterioration

4 Bldgs.

Fort Belvoir

Fairfax VA 22060

Landholding Agency: Army

Property Number: 21200720043

Status: Unutilized

Directions: 0629, 0630, 00704, 00771

Reasons: Extensive deterioration

Bldgs. 01147, 01148

Fort Belvoir

Fairfax VA 22060

Landholding Agency: Army

Property Number: 21200720044

Status: Unutilized

Reasons: Extensive deterioration

4 Bldgs.

Fort Belvoir

Fairfax VA 22060

Landholding Agency: Army

Property Number: 21200720045

Status: Unutilized

Directions: 05002, 05009, 05010, 05014

Reasons: Extensive deterioration

Unsuitable Properties

Building

Virginia

5 Bldgs.

Fort Belvoir

Fairfax VA 22060

Landholding Agency: Army

Property Number: 21200720046

Status: Unutilized

Directions: 05033, 05034, 05035, 05036, 05037

Reasons: Extensive deterioration

Bldgs. 05040, 05043

Fort Belvoir

Fairfax VA 22060

Landholding Agency: Army

Property Number: 21200720047

Status: Unutilized

Reasons: Extensive deterioration

4 Bldgs.

Fort Belvoir

Fairfax VA 22060

Landholding Agency: Army

Property Number: 21200720048

Status: Unutilized

Directions: 05065, 05066, 05067, 05069

Reasons: Extensive deterioration

Unsuitable Properties

Building

Virginia

6 Bldgs.

Fort Belvoir

Fairfax VA 22060

Landholding Agency: Army

Property Number: 21200720049

Status: Unutilized

Directions: 05071, 05072, 05073, 05075, 05076, 05077

Reasons: Extensive deterioration

Bldgs. 05081, 05088

Fort Belvoir

Fairfax VA 22060

Landholding Agency: Army

Property Number: 21200720050

Status: Unutilized

Reasons: Extensive deterioration

7 Bldgs.

Fort Belvoir

Fairfax VA 22060

Landholding Agency: Army

Property Number: 21200720051

Status: Unutilized

Directions: 05090, 05092, 05094, 05095, 05096, 05097, 05098

Reasons: Extensive deterioration

[FR Doc. E7-9889 Filed 5-24-07; 8:45 am]

BILLING CODE 4210-67-P